DEPARTMENT OF STATE

[Public Notice 6838]

Bureau of Educational and Cultural Affairs; Office of Academic Exchanges

Notice: An Amendment to a RFGP (Near East and South Asia Undergraduate Exchange Program—NESA UGRAD).

Summary: The United States Department of State, Bureau of Educational and Cultural Affairs, announces revisions to a RFGP announced in the Federal Register on November 5, 2009 (Federal Register Volume 74, Number 213):

Revisions are as follows:

(1) The semester-long program for 25 Pakistani participants has been cancelled and as a result, participant numbers will be decreased to no less than 90.

(2) The program should be designed exclusively as an academic year program for the countries listed under “Purpose” (page 4) in the original solicitation.

(3) As a result of the cancellation of the semester-long program component, it is anticipated, that pending availability of funds, the revised funding level will be decreased from $3.5 million to $3 million.

(4) Please note: Pending availability of funds, it is anticipated that the Bureau will be issuing a separate RFGP at a later date in support of a Pakistani semester-long program.

All other terms and conditions of the original announcement remain the same.

Additional Information: Interested organizations should contact Laura Alami, Near East Asia Programs Branch, Office of Academic Exchange Programs, ECA/A/E/NEA, SA-5 Floor 4, U.S. Department of State, Washington, DC 20522-0504, 202-632-3270 and Fax: 202-632-9411.

Dated: December 4, 2009.
Maura M. Pally,
Acting Assistant Secretary for Educational and Cultural Affairs, U.S. Department of State.

[FR Doc. E9-29449 Filed 12-9-09; 8:45 am]

BILLING CODE 4710-11-P